DEPARTMENT OF ENERGY

Federal Energy Regulatory Commission

Combined Notice of Filings #2

Take notice that the Commission received the following electric rate filings:

Docket Numbers: ER10-2822-005; ER11-2462-004; ER11-2463-004; ER11-2464-004; ER11-2465-004; ER10-2994-009; ER11-2466-004; ER11-2467-004; ER11-2468-004; ER11-2469-004; ER11-2470-004; ER11-2471-004; ER11-2472-004; ER11-2473-004; ER11-2196-005; ER11-2474-006; ER11-2475-004.

Applicants: Iberdrola Renewables, LLC, Atlantic Renewable Projects II LLC, Big Horn Wind Project LLC, Big Horn II Wind Project LLC, Colorado Green Holdings LLC, Hay Canyon Wind LLC, Juniper Canyon Wind Power LLC, Klamath Energy LLC, Klamath Generation LLC, Klondike Wind Power LLC, Klondike Wind Power II LLC, Klondike Wind Power III LLC, Leaning Juniper Wind Power II LLC, Pebble Springs Wind LLC, San Luis Solar LLC, Star Point Wind Project LLC, Twin Buttes Wind LLC.

Description: Supplement to December 20, 2013 Updated Market Power Analysis for the Northwest Region of the Iberdrola MBR Sellers.

Filed Date: 3/28/14.

Accession Number: 20140328-5064.

Comments Due: 5 p.m. ET 4/18/14.

Docket Numbers: ER14-700-003.

Applicants: Entergy Services, Inc.

Description: EES LBA Agreement Refile—Oxy 3-31-2014 to be effective 12/31/2014.

Filed Date: 3/31/14.

Accession Number: 20140331-5444.

Comments Due: 5 p.m. ET 4/21/14.

Docket Numbers: ER14-702-003.

Applicants: Entergy Arkansas, Inc.

Description: EAI LBA Agmt Refile—Calpine PB 3-31-2014 to be effective 12/31/9998.

Filed Date: 3/31/14.

Accession Number: 20140331-5274.

Comments Due: 5 p.m. ET 4/21/14.

Docket Numbers: ER14-1135-002.

Applicants: Renewable Power Direct, LLC.

Description: Original Volume No. 1 to be effective 4/1/2014.

Filed Date: 3/31/14.

Accession Number: 20140331-5341.

Comments Due: 5 p.m. ET 4/21/14.

Docket Numbers: ER14-1621-000.

Applicants: Verso Androscoggin LLC.

Description: Androscoggin—Notice of Change in Seller Category Status and Amendments to be effective 4/1/2014.

Filed Date: 3/31/14.

Accession Number: 20140331-5321.

Comments Due: 5 p.m. ET 4/21/14.

Docket Numbers: ER14-1622-000.

Applicants: Verso Bucksport LLC.

Description: Bucksport—Notice of Change in Seller Category Status and Amendments to be effective 4/1/2014.

Filed Date: 3/31/14.

Accession Number: 20140331-5323.

Comments Due: 5 p.m. ET 4/21/14.

Docket Numbers: ER14-1623-000.

Applicants: Verso Maine Energy LLC.

Description: Maine—Notice of Change in Seller Category Status and Amendments to be effective 4/1/2014.

Filed Date: 3/31/14.

Accession Number: 20140331-5325.

Comments Due: 5 p.m. ET 4/21/14.

Docket Numbers: ER14-1624-000.

Applicants: Mississippi Power Company.

Description: Mississippi Power Company submits tariff filing per 35.13(a)(1): MRA 25 Rate Case Filing to be effective 5/1/2014.

Filed Date: 3/31/14.

Accession Number: 20140331-5412.

Comments Due: 5 p.m. ET 4/21/14.

Docket Numbers: ER14-1625-000.

Applicants: Exelon Generation Company, LLC.

Description: Exelon Generation Company, LLC submits tariff filing per 35: Revised Market-Based Rate Tariff to be effective 3/1/2014.

Filed Date: 3/31/14.

Accession Number: 20140331-5429.

Comments Due: 5 p.m. ET 4/21/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 31, 2014.
Nathaniel J. Davis, Sr.,
Deputy Secretary.

[FR Doc. 2014-07790 Filed 4-7-14; 8:45 am]

BILLING CODE 6717-01-P